DEPARTMENT OF EDUCATION

[CFDA No.: 84.292B]

Office of Bilingual Education: Field-Initiated Research Program

AGENCY: Department of Education.

ACTION: Correction and Extension notice.

SUMMARY: On March 17, 2000, a notice inviting applications for new awards for FY 2000 was published in the Federal Register (65 FR 14730 through 14749). This notice was a complete application package and contained all of the information, application forms and instructions needed to apply for a grant under this program. There was one form inadvertently omitted from the application package. The form was “Bilingual Education: Field Initiated Research Program—Eligibility Certification”. The form is included with this correction notice.

Note: This notice also extends the deadline for transmittal of application as follows:

DEADLINE FOR TRANSMITTAL OF APPLICATIONS: April 24, 2000.

DEADLINE FOR INTERGOVERNMENTAL REVIEW: May 24, 2000.

FOR FURTHER INFORMATION CONTACT: Socorro Lara, U.S. Department of Education, 400 Maryland Ave., SW Room 5086, Switzer Building, Washington, DC 20202-6510. Telephone: (202) 205-9730. E-mail address: socorro_lara@ed.gov.

Individuals who use a telecommunications device for the deaf (TDD) may call the Federal Information Relay Services (FIRS) at 1-800-877-8330.

Individuals with disabilities may obtain this document in an alternate format (e.g., Braille, large print, audiotape, or computer diskette) on request to the contact person listed in the preceding paragraph. Please, note, however, that the Department is not able to reproduce in an alternate format the standard forms included in the notice.

Electronic Access to This Document

You may review this document, as well as all other Department of Education documents published in the Federal Register, in text or Adobe Portable Document Format (PDF) on the internet at either of the following sites:

http://ocfo.ed.gov/fedreg.htm

http://www.ed.gov/news.html

To use the PDF you must have the Adobe Acrobat Reader Program with Search, which is available free at either of the preceding sites. If you have questions about using the PDF, call the U.S. Government Printing Office toll free at 1-888-293-6498 or in the Washington, DC area at (202) 512-1530.

Note: The official version of this document is the document published in the Federal Register. Free Internet access to the official edition of the Federal Register and the Code of Federal Regulations is available on GPO Access at http://www.access.gpo.gov/nara/index.html.

Program Authority
Dated: March 31, 2000.
Art Love,
Acting Director, Office of Bilingual Education and Minority Languages Affairs.

BILLING CODE 4000-01-M

[FR Doc. 00-8483 Filed 4-6-00; 8:45 am]

BILLING CODE 4000-01-C